DEPARTMENT OF THE INTERIOR

Bureau of Ocean Energy Management

[Docket No. BOEM-2020-0018]

Final Environmental Impact Statement on the Cook Inlet Lease Sale 258

AGENCY: Bureau of Ocean Energy Management (BOEM), Interior.

ACTION: Notice of Availability (NOA) of a final environmental impact statement.

SUMMARY: BOEM announces the availability of a final environmental impact statement (Final EIS) for the Cook Inlet Outer Continental Shelf Oil and Gas Lease Sale 258 (Lease Sale 258). The Final EIS provides an analysis of potential environmental impacts of the Proposed Action and identifies BOEM's Preferred Alternative.

DATES: BOEM will issue a final record of decision no sooner than November 28, 2022.

ADDRESSES: The Final EIS with appendices are available for review on BOEM's website at https://www.boem.gov/ak258.

FOR FURTHER INFORMATION CONTACT: For more information on the Cook Inlet Lease Sale 258 Final EIS, you may contact Casey Rowe, Bureau of Ocean Energy Management, Alaska Regional Office, 3801 Centerpoint Drive, Suite 500, Anchorage, Alaska 99503-5823, or at telephone number (907) 334-5200.

SUPPLEMENTARY INFORMATION: The Final EIS will inform the lease sale process for Lease Sale 258, which BOEM is required to hold by the end of December 2022, as directed in the Inflation Reduction Act of 2022 (Pub. L. 117-169, enacted Aug. 16, 2022). While BOEM has no discretion on whether to hold the sale, BOEM has prepared this final EIS to follow its normal leasing process to the fullest extent possible.

On October 29, 2021, the Notice of Availability of the Draft EIS was published in the Federal Register (86 FR 60068), beginning a 45-day public comment period that ended December 13, 2021. During that time, BOEM also held three public hearings. BOEM received a total of 92,907 public comments through the Federal e-Rulemaking Portal (http://www.regulations.gov, docket BOEM-2020-0018). Following the close of the public comment period, BOEM assessed and considered all comments received and responded by making revisions to the EIS as appropriate. Detailed responses to comments received are provided in Appendix B to the Final EIS.

This Final EIS contains analyses of the potential environmental impacts that could result from a Cook Inlet lease sale. Additionally, BOEM's Preferred Alternative is identified. The Preferred Alternative would offer for lease 193 unleased blocks in the lease sale area, and combines the two critical habitat exclusion alternatives and three mitigation alternatives: Alternative 3A (Beluga Whale Critical Habitat Exclusion), Alternative 3C (Beluga Whale Nearshore Feeding Areas Mitigation), Alternative 4A (Northern Sea Otter Critical Habitat Exclusion), Alternative 4B (Northern Sea Otter Critical Habitat Mitigation), and Alternative 5 (Gillnet Fishery Mitigation). BOEM's announcement of Cook Inlet Lease Sale 258 will be made in a final notice of sale and record of decision.

Authority: The National Environmental Policy Act of 1969, as amended (42 U.S.C. 4321 et seq.) and 43 CFR 46.415.

Amanda Lefton,
Director, Bureau of Ocean Energy Management.

[FR Doc. 2022-23496 Filed 10-27-22; 8:45 am]

BILLING CODE 4340-98-P